INTERNATIONAL TRADE COMMISSION

[Investigation No. 337-TA-514]

In the Matter of Certain Plastic Food Containers; Notice of Investigation

Correction

In notice document 04-14038 beginning on page 34691 in the issue of June 22, 2004, make the following correction:

On page 34691, in the third column, above the subject heading, the docket number is corrected to read as set forth above.

[FR Doc. C4-14038 Filed 6-29-04; 8:45 am]

BILLING CODE 1505-01-D

DEPARTMENT OF TRANSPORTATION

Federal Aviation Administration

14 CFR Part 71

[Docket No. FAA-2003-15996; Airspace Docket 03-ANM-04]

Modification of Class E Airspace; Trinidad, CO

Correction

In rule document 04-13828 appearing on page 34055 in the issue of Friday, June 18, 2004, make the following correction:

§71.1 [Corrected]

On page 34055, in §71.1, in the third column, under the heading ÿ7E“ANM CO E5 Trinidad, CO [Revised]”, in the second paragraph, in the 15th and 16th lines, “V263-378” should read “V263-389”.

[FR Doc. C4-13828 Filed 6-29-04; 8:45 am]

BILLING CODE 1505-01-D